DEPARTMENT OF TRANSPORTATION

Federal Aviation Administration

Categorical Exclusion From Further Environmental Review for Standard Terminal Arrival Route Procedures and Standard Instrument Departure Procedures for Washington Dulles International Airport

AGENCY: Air Traffic Procedures Advisory Committee. Federal Aviation Administration (FAA), DOT.

ACTION: Notice.

SUMMARY: The FAA is issuing this notice to advise the public of its environmental review of two standard terminal arrival route (STAR) procedures and two standard instrument departure (SID) procedures at Washington Dulles International Airport (IAD). As required by the National Environmental Policy Act, an evaluation has been performed on the two proposed STAR procedures and the two proposed SID procedures to determine the level of environmental review warranted. The FAA has elected to “Categorically Exclude from further environmental review” the proposed STAR procedures identified as GIBBZ (RNAV) STAR and DOCCS STAR and the proposed SID procedures identified as RNLDI (RNAV) SID (previously named BLUES ONE (RNAV) SID) and BUNZZ ONE (RNAV) SID.

DATES: Effective upon publication. A Categorical Exclusion (Cat Ex) from environmental review does not require a formal public hearing or a formal public comment period prior to the Cat Ex becoming effective.

FOR FURTHER INFORMATION CONTACT: Ms. Lee Kyker, Environmental Specialist, Air Traffic Eastern Service Center, Operations Support Group, 1701 Columbia Ave., College Park, GA 30337.

SUPPLEMENTARY INFORMATION: Notice is hereby given that the FAA has elected to “Categorically Exclude from further environmental review” the proposed procedures as follows: GIBBZ (RNAV) STAR, DOCCS STAR, RNLDI (RNAV) SID (previously named BLUES ONE (RNAV) SID) and BUNZZ ONE (RNAV) SID.

Project: Publish GIBBZ (RNAV) STAR, DOCCS STAR, RNLDI (RNAV) SID (previously named BLUES ONE (RNAV) SID) and BUNZZ ONE (RNAV) SID.

Location: Washington Dulles International Airport.

This project consists of publishing procedures identified as the GIBBZ (RNAV) STAR, DOCCS STAR, RNLDI (RNAV) SID (previously named BLUES ONE (RNAV) SID) and BUNZZ ONE (RNAV) SID. On June 4, 2012, the BLUES (RNAV) SID was renamed to the RNLDI RNAV SID. RNAV facilitates more efficient design of airspace and procedures which collectively result in improved safety, access, predictability, and operational efficiency. Improved access and flexibility for point-to-point operations help enhance reliability and reduce delays by defining more precise terminal area procedures. The review process indicated that the proposed project will not adversely impact the environment. Consequently, the FAA has elected to “Categorically Exclude from further environmental review” the proposed Standard Terminal Arrival procedures, based upon compliance with FAA Order 1050.1E, § 311(i).

Issued in Atlanta, GA, on August 1, 2012.
Barry A. Knight,
Acting Manager, Operations Support Group FAA, Air Traffic, Eastern Service Center.

[FR Doc. 2012-19873 Filed 8-14-12; 8:45 am]

BILLING CODE 4910-13-P